FEDERAL TRADE COMMISSION

Granting of Request for Early Termination of the Waiting Period Under the Premerger Notification Rules

Section 7A of the Clayton Act, 15 U.S.C. 18a, as added by Title II of the Hart-Scott- Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted November 1, 2015 thru November 30, 2015
11/02/2015
20160056 | G | Suncor Energy Inc.; Canadian Oil Sands Limited; Suncor Energy Inc.
20160094 | G | Leeds Equity Partners V, L.P.; Higher One Holdings, Inc.; Leeds Equity Partners V, L.P.
20160114 | G | Allergan plc; Mimetogen Pharmaceuticals Inc.; Allergan plc.
11/03/2015
20150863 | G | Mylan N.V.; Perrigo Company plc; Mylan N.V.
20160070 | G | Carl C. Icahn; American International Group, Inc.; Carl C. Icahn.
20160124 | G | DSV A/S; UTi Worldwide Inc.; DSV A/S.
20160132 | G | Calpine Corporation; Granite Ridge Holdings LLC; Calpine Corporation.
11/04/2015
20160019 | G | SS&C Technologies, Inc.; Carlyle U.S. Growth Fund III, L.P.; SS&C Technologies, Inc.
20160027 | G | Mr. Patrick Drahi; Cablevision Systems Corporation; Mr. Patrick Drahi.
20160029 | G | Mr. Patrick Drahi; Comcast Corporation; Mr. Patrick Drahi.
20160080 | G | H&F EFS AIV I, L.P.; Lee Equity Partners Fund Summer AIV LP; H&F EFS AIV I, L.P.
20160123 | G | Benchmark Electronics, Inc.; Vance Street Capital LLC; Benchmark Electronics, Inc.
20160127 | G | Brentwood Associates Private Equity V, L.P.; Sea Island Clothiers Holdings, LLC; Brentwood Associates Private Equity V, L.P.
20160129 | G | ServiceMaster Global Holdings, LLC; David Royce; ServiceMaster Global Holdings, LLC.
11/05/2015
20160035 | G | AqGen Island Holdings, Inc.; C.G. JCF, L.P.; AqGen Island Holdings, Inc.
11/06/2015
20160028 | G | Tyler Technologies, Inc.; Larry D. Leinweber; Tyler Technologies, Inc.
20160135 | G | Estate of Vincent Camuto; Estate of Vincent Camuto; Estate of Vincent Camuto.
20160137 | G | AEA Investors Small Business Fund II LP; Quad-C Partners VII, L.P.; AEA Investors Small Business Fund II LP.
20160141 | G | CCMP Capital Investors III (AV-9), L.P.; PQ Group Holdings Inc.; CCMP Capital Investors III (AV-9), L.P.
20160143 | G | PQ Group Holdings Inc.; Eco Services Group Holdings LLC; PQ Group Holdings Inc.
20160145 | G | CCMP Capital Investors III (AV-7), L.P.; PQ Group Holdings Inc.; CCMP Capital Investors III (AV-7), L.P.
20160156 | G | Thales Group; Vormetric, Inc.; Thales Group
20160157 | G | Lake Michigan Credit Union; United Federal Credit Union; Lake Michigan Credit Union.
20160160 | G | Saudi Arabian Oil Company; LANXESS AG; Saudi Arabian Oil Company.
20160163 | G | nexAir Holding, Inc.; Praxair, Inc.; nexAir Holding, Inc.
20160170 | G | Carlyle Global Financial Services Partners II, LP; Edgewood Partners Holdings, LLC; Carlyle Global Financial Services Partners II, LP.
20160177 | G | Intercontinental Exchange, Inc.; Interactive Data Holdings Corporation; Intercontinental Exchange, Inc.
11/09/2015
20160118 | G | Singapore Post Limited; Genossenschaft Constanter; Singapore Post Limited
20160149 | G | Capita plc; Xchanging plc; Capita plc
20160155 | G | PBF Energy Inc.; Exxon Mobil Corporation; PBF Energy Inc. 20160159 G TransCanada Corp.; Talen Energy Corporation; TransCanada Corp. 20160164 G Green Plains Inc.; Murphy USA Inc.; Green Plains Inc.
20160172 | G | Participacoes Industriais do Nordeste, S.A.; Ball Corporation ; Participacoes Industriais do Nordeste, S.A.
11/10/2015
20160061 | G | TRC Companies, Inc.; Willbros Group, Inc.; TRC Companies, Inc.
20160101 | G | Blue Mountain Credit Alternatives Fund Ltd.; Angiotech Pharmaceuticals, Inc.; Blue Mountain Credit Alternatives Fund Ltd.
20160111 | G | Mason Capital, Ltd.; Edgewell Personal Care Company; Mason Capital, Ltd.
20160152 | G | Bristol-Myers Squibb Company; Five Prime Therapeutics, Inc.; Bristol-Myers Squibb Company.
11/12/2015
20160088 | G | Dialog Semiconductor Plc; Atmel Corporation; Dialog Semiconductor Plc.
20160174 | G | Project Aurora Parent, Inc.; SolarWinds, Inc.; Project Aurora Parent, Inc.
11/13/2015
20160175 | G | EQUATE Petrochemical Company; Kuwait Petroleum Corporation ; EQUATE Petrochemical Company.
20160178 | G | EQUATE Petrochemical Company; The Dow Chemical Company; EQUATE Petrochemical Company.
11/16/2015
20160119 | G | WEX Inc.; Benaissance, LLC; WEX Inc.
20160131 | G | Cologix Holdings, Inc.; NAC Holdings LLC; Cologix Holdings, Inc.
20160139 | G | Svenska Cellulosa Aktiebolaget SCA ; Wausau Paper Corp.; Svenska Cellulosa Aktiebolaget SCA.
20160151 | G | NorthStar Asset Management Group Inc.; GTCR Fund X/B LP; NorthStar Asset Management Group Inc.
20160179 | G | Securitas AB ; Diebold, Incorporated; Securitas AB.
20160184 | G | Shaobo Li ; Nipro Corporation ; Shaobo Li.
20160185 | G | Blackstone Capital Partners IV L.P.; Arlington Capital Partners III, L.P.; Blackstone Capital Partners IV L.P.
20160187 | G | Trend Micro, Inc.; Hewlett Packard Enterprise Company; Trend Micro, Inc.
20160192 | G | Navitas Midstream Partners, LLC; Apache Corporation ; Navitas Midstream Partners, LLC.
20160197 | G | Envision Healthcare Holdings, Inc.; QRx Medical Management, LLC; Envision Healthcare Holdings, Inc.
20160202 | G | Trilantic Capital Partners IV L.P.; Antero Resources Investment LLC; Trilantic Capital Partners IV L.P.
11/17/2015
20151733 | G | Schlumberger N.V.; Cameron International Corporation ; Schlumberger N.V.
20160203 | G | TCP Antero I-1 Holdco, LLC; Antero Resources Investment LLC; TCP Antero I-1 Holdco, LLC.
20160205 | G | Paul M. Rady; Antero Resources Investment LLC; Paul M. Rady.
20160213 | G | Warburg Pincus Private Equity X O&G, L.P.; Antero Resources Investment LLC; Warburg Pincus Private Equity X O&G, L.P.
20160214 | G | Warburg Pincus Private Equity VIII, L.P.; Antero Resources Investment LLC; Warburg Pincus Private Equity VIII, L.P.
20160215 | G | Warburg Pincus Private Equity X L.P.; Antero Resources Investment LLC; Warburg Pincus Private Equity X L.P.
20160216 | G | BIF III Holtwood Holding (Delaware) LLC; Talen Energy Corporation ; BIF III Holtwood Holding (Delaware) LLC
20160217 | G | Glen C. Warren, Jr.; Antero Resources Investment LLC; Glen C. Warren, Jr.
20160220 | G | Invesco Perpetual UK Investment Series Investment Company; Biofem LLC; Invesco Perpetual UK Investment Series Investment Company.
20160221 | G | Invesco Perpetual UK 2 Investment Series Investment Company; Biofem LLC; Invesco Perpetual UK 2 Investment Series Investment Company.
20160224 | G | Gryphon Partners 3.5, L.P.; Robert W. Fisher ; Gryphon Partners 3.5, L.P.
20160229 | G | Endologix, Inc.; TriVascular Technologies, Inc.; Endologix, Inc.
20160231 | G | Brooks Automation, Inc.; BioStorage Technologies, Inc.; Brooks Automation, Inc.
20160236 | G | Genstar Capital Partners VII, L.P.; Lee Equity Partners Fund PDR AIV, L.P.; Genstar Capital Partners VII, L.P.
11/18/2015
20160222 | G | CF Woodford Investment Fund; Biofem LLC; CF Woodford Investment Fund.
11/19/2015
20160136 | G | CDC Holdings, L.P.; Windstream Holdings, Inc.; CDC Holdings, L.P.
20160167 | G | Genstar Capital Partners VII, L.P.; PSG MB Holding Company I, L.P.; Genstar Capital Partners VII, L.P.
20160180 | G | TPG-Axon Partners, LP; GNC Holdings, Inc.; TPG-Axon Partners, LP.
20160181 | G | TPG-Axon Partners (Offshore), Ltd.; GNC Holdings, Inc.; TPG-Axon Partners (Offshore), Ltd.
11/20/2015
20160209 | G | Blue Cross Blue Shield of Michigan Mutual Insurance Company; DDDS Holdings, LLC; Blue Cross Blue Shield of Michigan Mutual Insurance Company.
20160232 | G | Kinder Morgan Inc.; BP plc; Kinder Morgan Inc.
20160235 | G | Expedia, Inc.; HomeAway, Inc.; Expedia, Inc.
20160248 | G | The Lyme Forest Fund IV LP; Hawthorne Timber Company, LLC; The Lyme Forest Fund IV LP.
20160250 | G | GIP II CPV Holdings Partnership, L.P.; CPV Shore Holdings, LLC; GIP II CPV Holdings Partnership, L.P.
20160251 | G | Yorktown Energy Partners VIII, L.P.; Antero Resources Investment LLC; Yorktown Energy Partners VIII, L.P.
20160252 | G | American Capital Equity III, LP; Riverside Micro-Cap, Fund II, L.P.; American Capital Equity III, LP.
20160253 | G | Yorktown Energy Partners VII, L.P.; Antero Resources Investment LLC; Yorktown Energy Partners VII, L.P.
20160254 | G | Toshiba Corporation ; Chicago Bridge & Iron Company N.V.; Toshiba Corporation.
20160256 | G | NeuStar, Inc.; MarketShare Partners, LLC; NeuStar, Inc.
20160258 | G | ABRY Partners VIII, L.P.; Directravel Holdings, LLC; ABRY Partners VIII, L.P.
20160259 | G | TPG Growth III (A), L.P.; Palladium Equity Partners III, L.P.; TPG Growth III (A), L.P.
20160263 | G | Brenntag AG ; Ridgemont Equity Partners I-B, L.P.; Brenntag AG.
20160264 | G | Cisco Systems, Inc.; Lancope, Inc.; Cisco Systems, Inc.
20160265 | G | Alphabet Inc.; Diane Greene ; Alphabet Inc.
20160266 | G | FMI Associates, L.L.C.; Maurice J. Wagener ; FMI Associates, L.L.C.
20160275 | G | Agnaten SE ; Douglas Zell and Emily Mange ; Agnaten SE.
20160279 | G | Sammer and Rawa Anabi Family Trust ; Rebel Oil Company, Inc.; Sammer and Rawa Anabi Family Trust.
20160285 | G | TA XI L.P.; Dan Randolph ; TA XI L.P.
20160308 | G | Nexstar Broadcasting Group, Inc.; West Virginia Media Partners, LP; Nexstar Broadcasting Group, Inc.
11/23/2015
20160158 | G | Sola Ltd, Charitable Trust ; Loral Space & Communications Inc.; Sola Ltd, Charitable Trust.
20160191 | G | Fairholme Funds, Inc.; Sears Holdings Corporation ; Fairholme Funds, Inc.
20160200 | G | Carl C. Icahn ; Chesapeake Energy Corporation ; Carl C. Icahn.
20160274 | G | FedEx Corporation ; TNT Express N.V.; FedEx Corporation.
20160276 | G | Dan T. Montgomery; A. James Clark Revocable Trust ; Dan T. Montgomery.
20160278 | G | Boston Scientific Corporation ; Dr. James R. Leininger ; Boston Scientific Corporation.
20160280 | G | Gryphon Partners IV, L.P.; The Huron Fund III, L.P.; Gryphon Partners IV, L.P.
20160284 | G | New Flyer Industries Inc.; Motor Coach Holdings, LP; New Flyer Industries Inc.
20160288 | G | Chiyoda Corporation ; Ezra Holdings Limited; Chiyoda Corporation.
20160289 | G | Caterpillar Inc.; Roy D. Sturgeon ; Caterpillar Inc.
20160291 | G | Bridgestone Corporation ; The Pep Boys—Manny, Moe & Jack ; Bridgestone Corporation.
11/24/2015
20160148 | G | FEI Company; DCG Systems, Inc.; FEI Company
20160165 | G | NeoGenomics, Inc.; General Electric Company; NeoGenomics, Inc.
20160166 | G | General Electric Company; NeoGenomics, Inc.; General Electric Company
20160168 | G | Elliott Associates, L.P.; Cabela's Incorporated; Elliott Associates, L.P.
20160169 | G | Elliott International Limited; Cabela's Incorporated; Elliott International Limited.
20160226 | G | LSF9 Cypress LP; Gypsum Supply Co. Employee Stock Ownership Plan Trust ; LSF9 Cypress LP.
20160260 | G | LetterOne Holdings S.A.; The Huron Fund III, L.P.; LetterOne Holdings S.A.
20160281 | G | AstraZeneca PLC; ZS Pharma, Inc.; AstraZeneca PLC.
11/25/2015
20150944 | S | NXP Semiconductors N.V.; Freescale Semiconductor, Ltd.; NXP Semiconductors N.V.
20160153 | G | Blucora, Inc.; HDV Holdings LLC; Blucora, Inc.
20160233 | G | Pamlico Capital III, L.P.; Chicago Growth Partners II, LP; Pamlico Capital III, L.P.
20160268 | G | Johnson & Johnson ; Novira Therapeutics, Inc.; Johnson & Johnson.
20160273 | G | Cathay Financial Holding Co., Ltd.; CCMP Capital Octagon Holdings, LLC; Cathay Financial Holding Co., Ltd.
20160295 | G | AutoNation, Inc.; MWM Real Estate, LLC; AutoNation, Inc.
20160298 | G | AutoNation, Inc.; Allen Samuels Enterprises, Inc.; AutoNation, Inc.
11/27/2015
20160277 | G | Endurance International Group, Inc.; Constant Contact, Inc.; Endurance International Group, Inc.
11/30/2015
20160206 | G | Sachem Head Offshore Ltd.; Autodesk, Inc.; Sachem Head Offshore Ltd.
20160207 | G | Sachem Head LP; Autodesk, Inc.; Sachem Head LP.
20160208 | G | Scott D. Ferguson ; Autodesk, Inc.; Scott D. Ferguson.
20160283 | G | Johnson & Johnson ; Hanmi Pharmaceutical Co., Ltd.; Johnson & Johnson.
20160297 | G | Kinross Gold Corporation ; Barrick Gold Corporation ; Kinross Gold Corporation.
20160309 | G | AAA Mid-Atlantic Inc.; AAA Allied Group, Inc.; AAA Mid-Atlantic Inc.
20160325 | G | Constellation Brands, Inc.; Jack White, Jr.; Constellation Brands, Inc.
20160328 | G | Targa Resources Corp.; Targa Resources Partners LP; Targa Resources Corp.
20160330 | G | AP VIII DSB Holdings, L.P.; Warburg Pincus Private Equity X, L.P.; AP VIII DSB Holdings, L.P.
20160334 | G | Arbor Investments III, L.P.; Ornua Co-operative Limited; Arbor Investments III, L.P.
20160341 | G | Riverstone Global Energy and Power Fund; Bonanza Creek Energy, Inc.; Riverstone Global Energy and Power Fund.
20160347 | G | Fossil Group, Inc.; Misfit, Inc.; Fossil Group, Inc.

FOR FURTHER INFORMATION CONTACT: Theresa Kingsberry Program Support Specialist, Federal Trade Commission Premerger Notification Office Bureau of Competition, Room CC-5301, Washington, DC 20024 (202) 326-3100.

By direction of the Commission.
Donald S. Clark,
Secretary.

[FR Doc. 2015-31670 Filed 12-16-15; 8:45 am]

BILLING CODE 6750-01-P